DEPARTMENT OF COMMERCE

National Oceanic and Atmospheric Administration

Proposed Information Collection; Comment Request; Northeast Multispecies Days-at-Sea Leasing Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 3, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Anna Macan, (978) 281-9165, or Anna.Macan@noaa.gov.

SUPPLEMENTARY INFORMATION:

I. Abstract

This request is for an extension of this information collection.

National Marine Fisheries Service (NMFS) Northeast Region manages the Northeast Multispecies fishery of the Exclusive Economic Zone (EEZ) of the Northeastern United States through the Northeast Multispecies Fishery Management Plan (FMP). The New England Fishery Management Council prepared the FMP pursuant to the Magnuson-Stevens Fishery Conservation and Management Act (MSA). The regulations implementing the FMP are specified at 50 CFR part 648 Subpart F. The NE multispecies Days-at-Sea (DAS) leasing requirements at § 648.82(k) form the basis for this collection of information.

The NE Multispecies DAS leasing program was implemented in 2004 as a result of Amendment 13 (69 FR 22906) which substantially reduced the number of DAS available for the NE multispecies vessels. To mitigate some of the adverse impact associated with the reduction in DAS, the NE Multispecies Leasing Program was developed to enable vessels to increase their revenue by either leasing additional DAS from another vessel to increase their participation in the fishery, or by leasing their unused allocated DAS to another vessel.

NMFS requests DAS leasing application information in order to process and track requests from allocation holders to transfer DAS to another vessel. This information, upon receipt, results in an increasingly more efficient and accurate database for management and monitoring of fisheries of the Northeastern U.S. EEZ. The DAS leasing downgrade information is collected to allow vessel owners that are eligible to lease Northeast multispecies DAS a one-time downgrade in their baseline specifications to their current vessel specifications. This one-time downgrade provides greater flexibility for vessel owners to lease their DAS.

II. Method of Collection

Applicants can submit a DAS leasing request either through mail or electronically. Fillable applications may be completed online, but must be printed and signed to complete and the originals must be mailed. Applicants may choose to submit a lease electronically by logging into their personal fish-on-line accounts at https://www.nero.noaa.gov/NMFSlogin/login/login and clicking on the Days At Sea Leasing section.

III. Data

OMB Control Number: 0648-0475.

Form Number: None.

Type of Review: Regular submission (extension of a current information collection).

Affected Public: Business or other for-profit organizations.

Estimated Number of Respondents: 505.

Estimated Time Per Response: DAS Leasing Application, 5 minutes; Request to Downgrade, 1 hour.

Estimated Total Annual Burden Hours: 88.

Estimated Total Annual Cost to Public: $495.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 30, 2012.
Gwellnar Banks,
Management Analyst, Office of the Chief Information Officer.

[FR Doc. 2012-10722 Filed 5-3-12; 8:45 am]

BILLING CODE 3510-22-P